DEPARTMENT OF AGRICULTURE

Forest Service

Idaho Panhandle Resource Advisory Committee

AGENCY: Forest Service, USDA.

ACTION: Notice of meeting.

SUMMARY: The Idaho Panhandle Resource Advisory Committee (RAC) will hold a meeting. The committee is authorized under the Secure Rural Schools and Community Self-Determination Act (the Act) and operates in compliance with the Federal Advisory Committee Act. The purpose of the committee is to improve collaborative relationships and to provide advice and recommendations to the Forest Service concerning projects and funding consistent with Title II of the Act. RAC information and meeting information can be found at the following website: https://www.fs.usda.gov/main/ipnf/workingtogether/advisorycommittees.

DATES: The meeting will be held virtually on Wednesday, December 9, beginning at 9:00 a.m., Pacific Standard Time. Go to the above website for further information on how to attend this virtual meeting.

All RAC meetings are subject to cancellation. For status of the meeting prior to attendance, please contact the person listed under For Further Information Contact.

ADDRESSES: The meeting will be held virtually. For virtual meeting informaiton, please contact the person listed under For Further Information Contact.

Written comments may be submitted as described under Supplementary Information. All comments, including names and addresses when provided, are placed in the record and are available for public inspection and copying. The public may inspect comments received at the Silver Valley Office, Coeur d'Alene River Ranger District, 173 Commerce Dr., Smelterville, Idaho 83868. Please call ahead to facilitate that inspection.

FOR FURTHER INFORMATION CONTACT: Phillip Blundell, RAC Coordinator, by phone at 208-783-2101 or by email at phillip.blundell@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review and discuss new Title II projects; and

2. Recommend new Title II projects for funding.

This meeting is open to the public. The agenda will include time for people to make oral statements of three minutes or less. Individuals wishing to make an oral statement should request in writing by Friday, December 4, 2020 to be scheduled on the agenda. Anyone who would like to bring related matters to the attention of the committee may file written statements with the committee staff before or after the meeting. Written comments, requests for time for oral comments or requests for instructions to participate virtually must be sent to Phillip Blundell, RAC Coordinator, Silver Valley Office, Coeur d'Alene River Ranger District, P.O. Box 159, Smelterville, Idaho 83868; by email to phillip.blundell@usda.gov or by phone at 208-783-2101.

Meeting Accommodations: If you are a person requiring reasonable accommodation, please make requests in advance for sign language interpreting, assistive listening devices, or other reasonable accommodation. For access to the facility or proceedings, please contact the person listed in the section titled For Further Information Contact. All reasonable accommodation requests are managed on a case-by-case basis.

Cikena Reid,
USDA Committee Management Officer.

[FR Doc. 2020-25920 Filed 11-23-20; 8:45 am]

BILLING CODE 3411-15-P